DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before June 27, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on June 3, 2025.
Donald P. Burger,
Chief, General Approvals and Permits Branch.

Special Permits Data
Application No. | Applicant | Regulation(s) affected | Nature of the special permits thereof
8162-M | Structural Composites Industries LLC | 172.203(a), 172.301(c), 173.302a(a)(1), 173.304a(a)(1) | To modify the special permit to authorize additional hazardous materials. (modes 1, 2, 3, 4, 5).
14152-M | Entegris, Inc | 173.27(f)(3), 173.187 | To modify the special permit to authorize an additional hazardous material. (modes 1, 3, 4).
16413-M | Amazon.com, Inc | 172.301(c), 172.315, 173.159a(c)(2), 173.185(c)(1)(iii), 173.185(c)(1)(iv), 173.185(c)(3) | To modify the special permit to exempt overpacks and packages from marking requirements and to authorize a copy of the special permit to be maintained at the headquarters office. (modes 1, 2).
20251-M | Salco Products Inc | 172.203(a), 178.345-1, 180.413 | To modify the special permit to authorize additional manway assemblies. (mode 1).
20297-M | The Cylinder Maintenance Company | 172.203(a), 172.301(c), 173.302a(b), 180.205 | To modify the special permit to change the grantee name and to authorize retesting of ISO 9809-1, -2, and -3 cylinders. (modes 1, 2, 3, 4, 5).
20910-M | CellBlock FCS, LLC | 172.200, 172.300, 172.303(a), 172.400, 172.500, 172.600, 172.700(a), 173.185(f) | To modify the special permit to authorize the damaged/defective lithium ion battery marking to be reduced to 6 mm in height. (modes 1, 2, 3).
21222-M | Bren-Tronics, Inc | 172.101(j), 173.185(b)(1) | To modify the special permit to add a new design in the Brenergy Battery Series. (mode 4).
21693-M | KULR Technology Corporation | 173.185(f) | To modify the special permit to increase the maximum Wh, indicate that a Bill of Lading is not required, authorize ferry shipments, and not require a copy of the special permit be provided to persons transporting cells and batteries. (modes 1, 2).
21704-M | KULR Technology Corporation | 172.200, 172.700(a), 173.185(b) | To modify the special permit to increase the maximum Wh, indicate that a Bill of Lading is not required, authorize ferry shipments, and not require a copy of the special permit be provided to persons transporting cells and batteries. (modes 1, 2).
21708-M | Loft Orbital Solutions Inc | 172.101(j)(1), 173.27(b)(2), 173.301(f), 173.302a, 173.304a | To modify the special permit to authorize an additional container. (modes 1, 2, 3, 4).
21866-M | Electronic Recyclers International Inc | 172.102(c)(1), 172.200, 172.300, 172.400, 172.500, 172.600, 172.700(a), 173.159a(c)(2), 173.185(c)(1)(iii), 173.185(c)(1)(iv), 173.185(c)(1)(v), 173.185(c)(3), 173.185(f) | To modify the special permit to authorize vessel as a mode of transportation. (modes 1, 2, 3).
21892-M | Electronic Fluorocarbons, LLC | 173.304a(a) | To modify the special permit to authorize additional hazardous materials. (modes 1, 2, 3).
21935-M | UMOE Advanced Composites AS | 173.302(a)(1) | To modify the special permit to clarify the testing requirements and to authorize additional hazardous materials. (modes 1, 2, 3).

[FR Doc. 2025-10722 Filed 6-11-25; 8:45 am]

BILLING CODE P